DEPARTMENT OF HOMELAND SECURITY

Coast Guard

33 CFR Part 165

[Docket No. USCG-2009-0465]

RIN 1625-AA00

Safety Zone; Chicago Harbor, Navy Pier Southeast, Chicago, IL

AGENCY: Coast Guard, DHS.

ACTION: Notice of enforcement of regulation.

SUMMARY: The Coast Guard will enforce the Navy Pier Southeast Safety Zone in Chicago Harbor during July 1, 2009 through July 29, 2009. This action is necessary to protect vessels and people from the hazards associated with fireworks displays. This safety zone will restrict vessel traffic from a portion of the Captain of the Port Lake Michigan Zone.

DATES: The regulations in 33 CFR 165.931 will be enforced from July 1, 2009 through July 29, 2009.

FOR FURTHER INFORMATION CONTACT: If you have questions on this notice, call or e-mail BM2 Kraft, Prevention Department, Coast Guard Sector Lake Michigan, Milwaukee, WI; telephone (414) 747-7154, e-mail Adam.D.Kraft@uscg.mil.

SUPPLEMENTARY INFORMATION:

The Coast Guard will enforce the special local regulation for the Safety Zone; Chicago Harbor, Navy Pier Southeast, Chicago, IL, 33 CFR 165.931 for the following events:

(1) Navy Pier Wednesday Fireworks on July 1, 2009 from 9:15 p.m. through 9:45 p.m.; on July 8, 2009 from 9:15 p.m. through 9:45 p.m.; on July 15, 2009 from 9:15 p.m. through 9:45 p.m.; on July 22, 2009 from 9:15 p.m. through 9:45 p.m.; on July 29, 2009 from 9:15 p.m. through 9:45 p.m.;

(2) Navy Pier Saturday Fireworks on July 04, 2009 from 8:45 p.m. through 9:30 p.m.; on July 11, 2009 from 10 p.m. through 10:40 p.m.; on July 18, 2009 from 10 p.m. through 10:40 p.m.

All vessels must obtain permission from the Captain of the Port or his on-scene representative to enter, move within or exit the safety zone. Vessels and persons granted permission to enter the safety zone shall obey all lawful orders or directions of the Captain of the Port or a designated representative. While within a safety zone, all vessels shall operate at the minimum speed necessary to maintain a safe course.

This notice is issued under authority of 33 CFR 165.931 (72 FR 32520, June 13, 2007) and 5 U.S.C. 552(a). In addition to this notice in the Federal Register, the Coast Guard will provide the maritime community with advance notification of these enforcement periods via Broadcast Notice to Mariners or Local Notice to Mariners. The Captain of the Port will issue a Broadcast Notice to Mariners notifying the public when enforcement of the safety zone established by this section is suspended. The Captain of the Port may be contacted via U.S. Coast Guard Sector Lake Michigan on channel 16, VHF-FM.

Dated: June 2, 2009.
Bruce C. Jones,
Captain, U.S. Coast Guard, Captain of the Port Lake Michigan.

[FR Doc. E9-13890 Filed 6-12-09; 8:45 am]

BILLING CODE 4910-15-P